DEPARTMENT OF STATE

[Public Notice 4908]

Culturally Significant Object Imported for Exhibition Determinations: “Raphael's La Fornarina”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, and Delegation of Authority No. 257 of April 15, 2003 [68 FR 19875], I hereby determine that the object to be included in the exhibition “Raphael La Fornarina,” imported from abroad for temporary exhibition within the United States, is of cultural significance. The object is imported pursuant to a loan agreement with the foreign owner. I also determine that the exhibition or display of the exhibit object at the The Frick Collection, New York, NY from on or about December 2, 2004 to on or about January 30, 2005, the Museum of Fine Arts, Houston, TX from on or about February 13, 2005 to on or about April 17, 2005, the Indianapolis Museum of Art, Indianapolis, IN from on or about May 6, 2005, to on or about June 26, 2005, and at possible additional venues yet to be determined, is in the national interest. Public Notice of these determinations is ordered to be published in the Federal Register.

FOR FURTHER INFORMATION CONTACT: For further information, including a list of the exhibit object, contact Carol B. Epstein, Attorney-Adviser, Office of the Legal Adviser, Department of State, (telephone: 202/453-8048). The address is Department of State, SA-44, 301 4th Street, SW., Room 700, Washington, DC 20547-0001.

Dated: November 22, 2004.
Patricia Harrison,
Assistant Secretary for Educational and Cultural Affairs, Department of State.

[FR Doc. 04-26292 Filed 11-24-04; 8:45 am]

BILLING CODE 4710-08-P